DEPARTMENT OF AGRICULTURE

Animal and Plant Health Inspection Service

[Docket No. 04-013-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of the regulations for the importation of poultry meat and products and live poultry from the Mexican States of Campeche, Quintana Roo, and Yucatan.

DATES: We will consider all comments that we receive on or before May 3, 2004.

ADDRESSES: You may submit comments by postal mail/commercial delivery or by e-mail. If you use postal mail/commercial delivery, please send four copies of your comment (an original and three copies) to: Docket No. 04-013-1, Regulatory Analysis and Development, PPD, APHIS, Station 3C71, 4700 River Road Unit 118, Riverdale, MD 20737-1238. Please state that your comment refers to Docket No. 04-013-1. If you use e-mail, address your comment to regulations@aphis.usda.gov. Your comment must be contained in the body of your message; do not send attached files. Please include your name and address in your message and “Docket No. 04-013-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on the regulations regarding the importation of poultry meat and products and live poultry from the Mexican States of Campeche, Quintana Roo, and Yucatan, contact Dr. Hatim Gubara, Senior Staff Veterinarian, Regionalization Evaluation Services Staff, VS, APHIS, 4700 River Road Unit 38, Riverdale, MD 20737-1231; (301) 734-4356. For copies of more detailed information on the information collection, contact Mrs. Celeste Sickles, APHIS' Information Collection Coordinator, at (301) 734-7477.

SUPPLEMENTARY INFORMATION: Title: Exotic Newcastle Disease; Importation of Poultry Meat and Products and Live Poultry from the Mexican States of Campeche, Quintana Roo, and Yucatan.

OMB Number: 0579-0228.

Type of Request: Extension of approval of an information collection.

Abstract: Under the Animal Health Protection Act (7 U.S.C. 8301-8317), the Animal and Plant Health Inspection Service, U.S. Department of Agriculture, regulates the importation of animals and animal products into the United States to prevent the introduction of animal diseases, such as exotic Newcastle disease (END), into the United States.

The regulations in 9 CFR part 94 allow the importation of poultry meat and products and live poultry from the Mexican States of Campeche, Quintana Roo, and Yucatan under conditions designed to ensure that the poultry meat and products and live poultry will not transmit END. This disease is not present in those States but exists in other parts of Mexico. The conditions for importation require, among other things, certification from a full-time salaried veterinary officer of the Government of Mexico that the poultry meat or products or live poultry originated in an END-free region and have not been commingled with poultry meat or products or live poultry from END-affected regions.

We are asking the Office of Management and Budget (OMB) to approve our use of this information collection activity for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 1 hour per response.

Respondents: Federal animal health authorities in Mexico.

Estimated annual number of respondents: 5.

Estimated annual number of responses per respondent: 10.

Estimated annual number of responses: 50.

Estimated total annual burden on respondents: 50 hours. (Due to averaging, the total annual burden hours may not equal the product of the annual number of responses multiplied by the reporting burden per response.)

All responses to this notice will be summarized and included in the request for OMB approval. All comments will also become a matter of public record.

Done in Washington, DC, this 25th day of February 2004.
Kevin Shea,
Acting Administrator, Animal and Plant Health Inspection Service.

[FR Doc. 04-4589 Filed 3-1-04; 8:45 am]

BILLING CODE 3410-34-P